DEPARTMENT OF THE INTERIOR

Bureau of Land Management

[LLNVSO3100 L51010000 ER0000 LVRWF12F8740.241A; 13-08807; MO# 4500048381; TAS: 14X5017]

Notice of Availability of a Record of Decision for the Searchlight Wind Energy Project, Clark County, NV

AGENCY: Bureau of Land Management, Interior.

ACTION: Notice of Availability.

SUMMARY: The Bureau of Land Management (BLM) announces the availability of the Record of Decision (ROD) for the Searchlight Wind Energy Project. The Department of the Interior Secretary signed the ROD on March 13, 2013, which constitutes the final decision of the Department.

ADDRESSES: Copies of the ROD are available upon request and for public inspection at the Southern Nevada District Office, Bureau of Land Management, 4701 N. Torrey Pines Drive, Las Vegas, NV, 89130 or on the internet at http://www.blm.gov/nv/st/en/fo/lvfo/blm_programs/energy/searchlight_wind_energy.html.

FOR FURTHER INFORMATION CONTACT: Gregory Helseth, Renewable Energy Project Manager, telephone 702-515-5173; address 4701 N. Torrey Pines Drive, Las Vegas, NV 89130; email ghelseth@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Searchlight Wind Energy, LLC, (SWE) a wholly-owned subsidiary of Duke Energy, applied to the BLM for a right-of-way (ROW) grant on public lands to develop a 200-megawatt (MW) wind energy facility. The ROW application area encompasses approximately 18,949 acres of BLM-administered public lands adjacent to Searchlight, Nevada, about 60 miles southeast of Las Vegas, in Clark County, Nevada. An updated inventory of lands with wilderness characteristics was completed and no lands with wilderness characteritics were found within the project area. The area was segregated from mineral entry in the Notice of Availability of the Draft Environmental Impact Statement (EIS) for the Searchlight Wind Energy Project. In connection with the SWE proposal, Western Area Power Administration (Western) submitted a ROW application to the BLM for construction and operation of an electrical interconnection facility/switchyard adjacent to the existing Davis-Mead transmission line that would interconnect the power generated from the wind facility to Western's electrical grid system. The Western application was also analyzed as part of the Searchlight Wind Energy Project Environmental Impact Statement. The proposed project is in conformance with the 1998 Las Vegas Resource Management Plan, pages 2-26 and 2-27 and the Record of Decision, October 5, 1998, pages 19 and 20.

The Environmental Protection Agency (EPA) and the BLM published the Notice of Availability of the Draft Environmental Impact Statement concurrently in the Federal Register (77 FR 2979 and 77 FR 2999) on January 20, 2012, starting a 60-day comment period on the Draft EIS.

The EPA published the Notice of Availability of the Final Environmental Impact Statement in the Federal Register (77 FR 74479) on December 14, 2012 and the BLM notice (77 FR 74865) was published on December 18, 2012. Printed and electronic copies of the Draft EIS and Final EIS are available at the Southern Nevada District Office and posted on the Internet at http://www.blm.gov/nv/st/en/fo/lvfo/blm_programs/energy/searchlight_wind_energy.html. Three alternatives were analyzed in the EIS—a 96 wind turbine layout, an 87 wind turbine layout, and a no-action alternative. The 87 wind turbine alternative is the BLM's preferred alternative. The BLM received 6 comment submissions during the 30-day availability period following the release of the Final EIS. In response to those comments, the BLM incorporated 7 additional mitigation measures and made minor editorial changes to clarify language in the ROD.

The ROD approves, with all mitigation measures identified in the Final EIS and additional mitigation measures identified in the ROD, the 87 wind turbine alternative, including associated infrastructure, and the switching station proposed by Western.

Because this decision is approved by the Secretary of the Interior, it is not subject to administrative appeal (43 CFR 4.410(a)(3)).

Authority: 40 CFR 1506.6 and 40 CFR 1506.10.

Jamie Connell,
Acting Deputy Director for Operations Bureau of Land Management.

[FR Doc. 2013-06673 Filed 3-21-13; 8:45 am]

BILLING CODE 4310-HC-P